INTERNATIONAL TRADE COMMISSION

[USITC SE-14-011]

Sunshine Act Meetings

AGENCY HOLDING THE MEETING: United States International Trade Commission.

TIME AND DATE: April 23, 2014 at 11:00 a.m.

PLACE: Room 101, 500 E Street SW., Washington, DC 20436, Telephone: (202) 205-2000.

STATUS: Open to the public.

MATTERS TO BE CONSIDERED:

1. Agendas for future meetings: none

2. Minutes

3. Ratification List

4. Vote in Inv. Nos. 701-TA-455 and 731-TA-1149 (Review) (Circular Welded Carbon-Quality Steel Line Pipe From China). The Commission is currently scheduled to complete and file its determination and views of the Commission on May 2, 2014.

5. Outstanding action jackets: none.

In accordance with Commission policy, subject matter listed above, not disposed of at the scheduled meeting, may be carried over to the agenda of the following meeting.

Dated: April 15, 2014.
By order of the Commission.
William R. Bishop,
Supervisory Hearings and Information Officer.

[FR Doc. 2014-08980 Filed 4-16-14; 11:15 am]

BILLING CODE 7020-02-P